DEPARTMENT OF COMMERCE

National Oceanic and Atmospheric Administration

50 CFR Part 679

[Docket No. 0612242886-7464-03; I.D. 041307D]

RIN 0648-AU68

Fisheries of the Exclusive Zone Off Alaska; Allocating Bering Sea/Aleutian Islands Fishery Resources; American Fisheries Act Sideboards

Correction

In rule document 07-4358 beginning on page 52668 in the issue of Friday, September 14, 2007, make the following correction:

PART 679—[AMENDED]

On page 52740, Table 33 to Part 679 is being reprinted in its entirety to read as follows:

Table 33 to Part 679.—Annual Apportionment of Amendment 80 Species ITAC Between the Amendment 80 and BSAI Trawl Limited Access Sectors (Except Yellowfin Sole)
Fishery | Management area | Year | Percentage of ITAC allocated to the Amendment 80 sector | Percentage of ITAC allocated to the BSAI trawl limited access sector
Atka Mackerel | 543 | All years | 100 | 0
| 542 | 2008 | 98 | 2
|  | 2009 | 96 | 4
|  | 2010 | 94 | 6
|  | 2011 | 92 | 8
|  | 2012 and all future years | 90 | 10
| 541/EBS | 2008 | 98 | 2
|  | 2009 | 96 | 4
|  | 2010 | 94 | 6
|  | 2011 | 92 | 8
|  | 2012 and all future years | 90 | 10
Aleutian Islands Pacific ocean perch | 543 | All years | 98 | 2
| 542 | 2008 | 95 | 5
|  | 2009 and all future years | 90 | 10
| 541 | 2008 | 95 | 5
|  | 2009 and all future years | 90 | 10
Pacific cod | BSAI | All years | 13.4 | N/A
Rock sole | BSAI | All years | 100 | 0
Flathead sole | BSAI | All years | 100 | 0

[FR Doc. C7-4358 Filed 10-26-07; 8:45 am]

BILLING CODE 1505-01-D

OFFICE OF PERSONNEL MANAGEMENT

Privacy Act of 1974: New System of Records

Correction

In notice document E7-20848 beginning on page 60396 in the issue of Wednesday, October 24, 2007, make the following correction:

The above document should not have printed in the Federal Register of Wednesday, October 24, 2007.

[FR Doc. Z7-20848 Filed 10-26-07; 8:45 am]

BILLING CODE 1505-01-D

OFFICE OF THE UNITED STATES TRADE REPRESENTATIVE

Notice of Request for Public Comments on the Review and Renegotiation of the United States-Israel Agreement on Trade in Agricultural Products

Correction

In notice document E7-20374 beginning on page 58688 in the issue of Tuesday, October 16, 2007, make the following correction:

On page 58688, in the second column, under the ADDRESSES heading, in the third line, “FR0802ustr.eop.gov” should read “FR0802@ustr.eop.gov”.

[FR Doc. Z7-20374 Filed 10-26-07; 8:45 am]

BILLING CODE 1505-01-D